ENVIRONMENTAL PROTECTION AGENCY

40 CFR Part 86

DEPARTMENT OF TRANSPORTATION

National Highway and Traffic Safety Administration

[EPA-HQ-OAR-2009-0865; FRL-9459-8; NHTSA-2010-0087]

RIN 2060-AQ09; RIN 2127-AK73

Revisions and Additions to Motor Vehicle Fuel Economy Label; Correction

AGENCY: Environmental Protection Agency, National Highway and Traffic Safety Administration, DOT.

ACTION: Final rule; correction.

SUMMARY: The Environmental Protection Agency and the Department of Transportation published a final rule regarding labeling of cars and trucks with fuel economy and environmental information in the Federal Register on July 6, 2011 (76 FR 39478). An error in the amendatory instruction for § 86.1867-12 inadvertently calls for the removal of paragraph (a)(3)(iv)(A) of that section. This rule revises the amendatory language for consistency with the regulatory text.

DATES: Effective on September 6, 2011.

FOR FURTHER INFORMATION CONTACT: Roberts French, Office of Transportation and Air Quality, Compliance and Innovative Strategies Division, Environmental Protection Agency, 2000 Traverwood Drive, Ann Arbor, MI 48105; Phone: (734) 214-4380; E-mail: french.roberts@epa.gov.

SUPPLEMENTARY INFORMATION: In rule FR Doc. #2011-14291 published on July 6, 2011, (76 FR 39478) make the following correction. On page 39523, in the first column, the amendatory language for instruction 13 is revised to read as follows:

§ 86.1867-12 [Corrected]

13. Section 86.1867-12 is amended by removing and reserving paragraph (a)(1)(iii)(A), by revising paragraphs (a)(1)(i), (a)(1)(ii), (a)(3)(iv)(A), (a)(3)(iv)(F), (a)(3)(vi), (a)(4), (b)(2), and (e)(4)(ii) to read as follows:

Dated: August 26, 2011.
Margo T. Oge,
Director, Office of Transportation and Air Quality, Environmental Protection Agency.
Dated: August 29, 2011.
Ronald Medford,
Deputy Administrator, National Highway Traffic Safety Administration, Department of Transportation.

[FR Doc. 2011-22664 Filed 9-2-11; 8:45 am]

BILLING CODE 6560-50-P